DEPARTMENT OF COMMERCE

International Trade Administration

[A-588-810]

Mechanical Transfer Presses From Japan: Preliminary Results of Antidumping Duty Administrative Review

AGENCY: Import Administration, International Trade Administration, Department of Commerce.

ACTION: Notice of preliminary results of antidumping duty administrative review: Mechanical transfer presses from Japan.

SUMMARY: The Department of Commerce (the Department) is conducting an administrative review of the antidumping duty order on mechanical transfer presses (MTPs) from Japan in response to a request by respondent, Komatsu, Ltd (Komatsu). Petitioner is Verson Division of Allied Products Corp. This review covers shipments of this merchandise to the United States during the period of February 1, 1999 through January 31, 2000. We have preliminarily determined that U.S. sales have not been made below normal value (NV). If these preliminary results are adopted in our final results, we will instruct the U.S. Customs Service to liquidate entries without regard to antidumping duties. Interested parties are invited to comment on these preliminary results. Parties who submit argument are requested to submit with each argument (1) a statement of the issue and (2) a brief summary of the argument.

EFFECTIVE DATE: March 8, 2001.

FOR FURTHER INFORMATION CONTACT: Mark Hoadley or Sally Gannon, Antidumping/Countervailing Duty Enforcement, Import Administration, International Trade Administration, U.S. Department of Commerce, 14th Street and Constitution Avenue, NW., Washington, DC 20230; telephone (202) 482-0666 or (202) 482-0162, respectively.

Applicable Statute

Unless otherwise indicated, all citations to the statute are references to the provisions effective January 1, 1995, the effective date of the amendments made to the Tariff Act of 1930 (the Act) by the Uruguay Round Agreements Act. In addition, unless otherwise indicated, all citations to the Department's regulations are to the provisions codified at 19 CFR part 351 (2000).

Background

The Department published an antidumping duty order on MTPs from Japan on February 16, 1990 (55 FR 5642). On March 30, 2000, we published a notice initiating an administrative review of MTPs (65 FR 16875). The review covers one manufacturer, Komatsu, which requested the review.

Due to complicated issues in this case, the Department extended the deadline for the preliminary results of this antidumping duty administrative review on October 24, 2000. See Mechanical Transfer Presses From Japan: Extension of Time Limit for Preliminary Results of Antidumping Administrative Review, 65 FR 64666 (October 30, 2000).

Scope of Review

Imports covered by this review include MTPs currently classifiable under Harmonized Tariff Schedule (HTS) item numbers 8462.99.0035 and 8466.94.5040. The HTS subheadings are provided for convenience and Customs purposes only. The written description of the scope of this order is dispositive. The term “mechanical transfer presses” refers to automatic metal-forming machine tools with multiple die stations in which the work piece is moved from station to station by a transfer mechanism designed as an integral part of the press and synchronized with the press action, whether imported as machines or parts suitable for use solely or principally with these machines. These presses may be imported assembled or unassembled. This review does not cover certain parts and accessories, which were determined to be outside the scope of the order. (See “Final Scope Ruling on Spare and Replacement Parts,” U.S. Department of Commerce, March 20, 1992; and “Final Scope Ruling on the Antidumping Duty Order on Mechanical Transfer Presses (MTPs) from Japan: Request by Komatsu, Ltd.,” U.S. Department of Commerce, October 3, 1996.) This review covers one manufacturer of MTPs, and the period February 1, 1999 through January 31, 2000.

Verification

As provided in section 782(i) of the Act, we verified information provided by Komatsu using standard verification procedures, including on-site inspection of the manufacturer's facilities and the examination of relevant sales and financial records. Our verification results are outlined in public and proprietary versions of the verification report, which are on file in the Central Records Unit of the Department.

Normal Value Comparisons

To determine whether respondent's sales of the subject merchandise to the United States were made at less than NV, we compared its export price to NV, as described in the “Export Price” and “Normal Value” sections of this notice.

Export Price

We calculated an export price (EP) in accordance with section 772(a) of the Act. We calculated EP for Komatsu based on the packed, prepaid price to the U.S. customer. We made deductions from the starting price for Japanese inland freight and insurance, brokerage and handling, international freight, marine insurance, U.S. inland freight, and supervision, in accordance with section 772(c)(2) of the Act.

Normal Value

We preliminarily determine that the use of constructed value (CV) is warranted to calculate NV for Komatsu, in accordance with section 773(a)(4) of the Act. While the home market is viable, sales made to the United States do not permit proper price-to-price comparisons with sales made in the home market. MTPs are made to each customer's specifications, resulting in significant differences among machines. Therefore, we have resorted to the use of CV. This decision is consistent with Department precedent in this proceeding. See, e.g., Mechanical Transfer Presses from Japan; Preliminary Antidumping Duty Administrative Review, and Intent to Revoke Order in Part, 63 FR 11211, 11213 (March 6, 1998).

We note that in past proceedings involving large, custom-built capital equipment, in addition to prior reviews of this order, we have normally resorted to CV. See, e.g., Large Newspaper Printing Presses and Components Thereof, Whether Assembled or Unassembled, From Japan: Preliminary Results of Antidumping Duty Administrative Review, 65 FR 62700, 62702 (Oct. 19, 2000); Large Power Transformers from France: Final Result of Antidumping Administrative Review, 61 FR 40403, (Aug. 2, 1996). CV consists of cost of design, direct materials, direct labor, variable overhead, fixed overhead, product-line R&D, and loss on disposals of inventories (yielding total cost of manufacturing), plus general and administrative expenses, net interest expense, profit, and U.S. packing expenses. We added to CV amounts for direct selling expenses (i.e., warranties, credit, and commissions) for merchandise exported to the United States. We subtracted home market direct selling expenses (i.e., warranties and credit).

Preliminary Results of Review

We preliminarily determine that the following dumping margin exists:

Manufacturer/exporter | Time period | Margin
Komatsu, Ltd | 2/01/99-1/31/00 | 0.99

Parties to the proceeding may request disclosure within 5 days of the date of publication of this notice in accordance with 19 CFR 351.224(b). Any interested party may request a hearing within 30 days of publication in accordance with 19 CFR 351.310(c). Any hearing, if requested, will be held 37 days after the publication of this notice, or the first workday thereafter. Interested parties may submit case briefs within 30 days of the date of publication of this notice in accordance with 19 CFR 351.309(c)(1)(ii). Rebuttal briefs, which must be limited to issues raised in the case briefs, may be filed not later than 35 days after the date of publication. The Department will publish a notice of final results of this administrative review, which will include the results of its analysis of issues raised in any such comments, not later than 120 days after the date of publication of this notice.

The Department shall determine, and the U.S. Customs Service shall assess, antidumping duties on all appropriate entries. Upon completion of this review, the Department will issue appraisement instructions directly to the Customs Service. Furthermore, the following deposit rate will be effective upon publication of the final results of this administrative review for all shipments of MTPs from Japan entered, or withdrawn from warehouse, for consumption on or after the publication date, as provided for by section 751(a)(2)(C) of the Act: (1) For Komatsu, the cash deposit rate will be the rate established in the final results of this review; (2) for previously reviewed or investigated companies not listed above, the cash deposit rate will be the company-specific rate established for the most recent period; (3) if the exporter is not a firm covered in this review, a prior review, or the original LTFV investigation, but the manufacturer is, the cash deposit rate will be the rate established for the most recent period for the manufacturer of the subject merchandise; and (4) for all other producers and/or exporters of this merchandise, the cash deposit rate shall be the rate established in the LTFV investigation, which is 14.51 percent. See Notice of Final Determination of Sales at Less Than Fair Value and Antidumping Duty Order: Mechanical Transfer Presses from Japan, dated September 15, 1997. These deposit rates, when imposed, shall remain in effect until publication of the final results of the next administrative review.

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This administrative review and notice are issued in accordance with sections 751(a)(1) and 777(i)(1) of the Act (19 U.S.C. 1675(a)(1) and 19 U.S.C 1677f(i)(1)). Effective January 20, 2001, Bernard T. Carreau is fulfilling the duties of the Assistant Secretary for Import Administration.

Dated: February 28, 2001.
Bernard T. Carreau,
Deputy Assistant Secretary, Import Administration.

[FR Doc. 01-5621 Filed 3-7-01; 8:45 am]

BILLING CODE 3510-DS-P